Title 3—

The President

Proclamation 8721 of September 23, 2011

Minority Enterprise Development Week, 2011

By the President of the United States of America

A Proclamation

Our Nation is guided by the simple promise that no matter our origins, we can provide a better life for our children. We have long believed in a fair America, where, with hard work and determination, anyone can succeed. Our story has been written by generations who have put their shoulders to the wheel of history to move our country forward.

Today, this legacy continues. Our strength comes from individuals from all walks of life, and of every race and creed. Minority-owned businesses are engines of job creation and backbones of communities across America—from Main Street to Wall Street, and from country markets to Silicon Valley. They are on the cutting edge of development, and are strong competitors at home and abroad. Small businesses, including minority-owned enterprises, are where most new jobs begin. To recover from this economic crisis and improve our competitiveness, we must help these job creators hire, grow, and revitalize our economy.

My Administration is working to make this growth a reality. Our Start-up America initiative connects established private sector mentors to entrepreneurs, helping accelerate innovation through coordination. Last year, I signed the Small Business Jobs Act, providing billions of dollars in lending support and tax cuts for small businesses. The Federal Government is also the Nation’s largest purchaser of goods and services, and every Federal agency is taking aggressive steps to improve contracting with small businesses, including minority-owned firms.

Even in challenging times, American entrepreneurs consistently respond to adversity with brighter ideas, more ambitious innovations, and smarter technology than the world has ever seen. These businesses create jobs and support our communities. As a Nation, we must continue to remove barriers to these opportunities, and ensure they remain open to all Americans.

The task of making America more competitive is a job for everyone. To build an economy that lasts, we must all work to create the well-paying jobs that will sustain us. During Minority Enterprise Development Week, we honor minority enterprises as vital to our economic success, and recommit to ensuring minority business owners have the information, tools, and resources they need to help America win the future.

NOW, THEREFORE, I, BARACK OBAMA, President of the United States of America, by virtue of the authority vested in me by the Constitution and the laws of the United States, do hereby proclaim September 25, 2011, through October 1, 2011, as Minority Enterprise Development Week. I call upon all Americans to celebrate this week with appropriate programs, ceremonies, and activities to recognize the many contributions of our Nation’s diverse enterprises.

IN WITNESS WHEREOF, I have hereunto set my hand this twenty-third day of September, in the year of our Lord two thousand eleven, and of the Independence of the United States of America the two hundred and thirty-sixth.

[FR Doc. 2011-25197

Filed 9-27-11; 11:15 am]

Billing code 3195-W1-P